DEPARTMENT OF HEALTH AND HUMAN SERVICES

Administration for Community Living

Agency Information Collection Activities; Proposed Collection; Public Comment Request; Revision of a Currently Approved Information Collection (ICR-REV); State Plan for Assistive Technology (OMB Approval Number 0985-0048)

AGENCY: Administration for Community Living, Department of Health and Human Services.

ACTION: Notice.

SUMMARY: The Administration for Community Living (ACL) is announcing an opportunity for the public to comment on ACL's intention to collect information necessary to determine grantee compliance with Section 4 of the Assistive Technology Act of 1998, as amended (AT Act). Under the Paperwork Reduction Act of 1995 (PRA), Federal agencies are required to publish a notice in the Federal Register concerning each proposed collection of information, including each proposed extension of an existing collection of information, and to allow 60 days for public comment in response to the proposed action. This notice solicits comments on a proposed revision to an existing information collection related to the State Grants for Assistive Technology Program State Plan for AT, formerly the 664 Report.

DATES: Submit written or electronic comments on the collection of information by November 14, 2017.

ADDRESSES: Submit electronic comments on the collection of information to: Robert.Groenendaal@acl.hhs.gov. Submit written comments on the collection of information by mail to Robert Groenendaal, U.S. Department of Health and Human Services, Administration for Community Living, Washington, DC 20201.

FOR FURTHER INFORMATION CONTACT: Robert Groenendaal at (202) 795-7356 or Robert.Groenendaal@acl.hhs.gov.

SUPPLEMENTARY INFORMATION: Section 4 of the AT Act establishes formula grants to states to support comprehensive statewide programs (Statewide AT Programs) that conduct activities that improve access to and acquisition of AT devices and services for individuals with disabilities across the lifespan and across a wide array of disabilities, and their family members, guardians, advocates, and authorized representatives. State Grants for AT program conducts the following state-level and state leadership activities: State financing, device demonstration, device loans, device reutilization, training and technical assistance, public awareness, and information and referral. Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed data collection represents a revision of a currently approved collection (ICR-Rev). In order to comply with the above requirement, ACL is requesting approval of a revision of a previously approved collection, the State Grants for Assistive Technology Program State Plan for AT, formerly known as the 664 report (0985-0048).

With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

The State Plan for AT is submitted every three years and updated annually by all State Grants for AT programs receiving formula funds under Section 4 of the Assistive Technology Act of 1998, as Amended (AT Act). The State Plan for AT is used by ACL to assess grantees' compliance with Section 4 of the AT Act and enables ACL to analyze qualitative and quantitative information to track performance outcomes and efficiency measures of the State Grants for AT programs; support budget requests; comply with the GPRA Modernization Act of 2010 (GPRAMA) reporting requirements; provide national benchmark information; and inform program development and management activities. The burden table below identifies the data collection activities for the instrument as well as the estimates for record keeping and entry of aggregate data. In addition to submitting a State Plan every three years, states and outlying areas are required to submit annual progress reports on their activities. The data required for these progress reports is specified in Section 4(f) of the AT Act.

The proposed State Grants for Assistive Technology Program State Plan for AT may be found on the ACL Web site at: https://www.acl.gov/about-acl/public-input.

Burden Estimates

ACL estimates the burden of this collection of information as follows:

The total estimated hour burden per respondent for the proposed State Plan for AT will decrease from the 74 hours per respondent estimated in FY 2015 to 73 hours estimated for FY 2018, an estimated reduction of one hour per respondent or 56 hours in total. The proposed State Plan for AT changes focus on a streamline of drop down choice lists in the current instrument. Actual expenditure data elements for state-level and state leadership tracking replaces the budget projections to provide more accurate fiscal data to ACL and to ensure compliance with AT Act requirements for expenditures. The proposed instrument simplifies the coordination and collaboration items to focus on activities conducted through a formal written agreement to ensure consistency and usefulness of data reported. The revised instrument aligns demographic data elements with the AT Annual Performance Report (APR), so that the data will be: Entered once, then only updated from that point on; used for both the State Plan and APR; updated quarterly with reminders; and used to populate the online State AT Program listing to ensure currency and accuracy. The reduction in burden is a result of a data collection workgroup composed of State AT program staff that met to suggest revisions to the current instrument. The workgroup solicited feedback from all of the grantees through face-to-face meetings and webinar presentations. The number of hours is multiplied by 56 AT State Grants programs, resulting in a total estimated hour burden of 4,088 hours.

Respondent/data collection activity | Number of respondents | Responses per respondent | Hours per response | Annual burden hours
State Plan for AT Annual Progress Report (AT APR) | 56 | 1 | 73.0 | 4,088

Dated: September 7, 2017.
Mary Lazare,
Principal Deputy Administrator.

[FR Doc. 2017-19570 Filed 9-14-17; 8:45 am]

BILLING CODE 4154-01-P